DEPARTMENT OF ENERGY

Federal Energy Regulatory Commission

[Project No. 1744-054]

PacifiCorp; Notice of Intent To Prepare an Environmental Assessment

On April 18, 2023, as supplemented on June 23, 2023, PacifiCorp filed an application for a non-capacity amendment for the Weber Hydroelectric Project No. 1744. The project is located on the Weber River in Davis, Morgan and Weber Counties, Utah. The project occupies Federal lands managed by the U.S. Forest Service, administered by the Uinta-Wasatch-Cache National Forest.

The licensee proposes to amend its license to modernize intake components at the Weber Dam. Additionally, the licensee proposes the construction of three new auxiliary spillways sections to accommodate recently recalculated 100-year flood flows. The new intake and spillway equipment would require the destruction and replacement of the current gatehouse and the original, non-functional, fish ladder to accommodate new screens/trashracks. All components would be installed on previously disturbed ground, within the project boundary. Staging for the proposed actions would be partially located on lands administered by the U.S. Department of Agriculture's Forest Service. The proposed action would require temporary closure of some recreational facilities, closest to the work area, during the construction. A Notice of Application Accepted for Filing and Soliciting Comments, Motions to Intervene, and Protest was issued on July 20, 2023. No comments were received.

This notice identifies Commission staff's intention to prepare an environmental assessment (EA) for the proposed action. The planned schedule for the completion of the EA is October 2024.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA.

With this notice, the Commission is inviting Federal, State, local, and Tribal agencies with jurisdiction and/or special expertise with respect to environmental issues affected by the proposal to cooperate in the preparation of the EA planned to be issued October 2024. Agencies wishing to cooperate, or further discuss the benefits, responsibilities, and obligations of the cooperating agency role, should contact staff listed at the bottom of this notice by February 20, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Jeffrey V. Ojala at 202-502-8206 or jeffrey.ojala@ferc.gov.

Dated: January 30, 2024.
Debbie-Anne A. Reese,
Acting Secretary.

[FR Doc. 2024-02193 Filed 2-2-24; 8:45 am]

BILLING CODE 6717-01-P